NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 26, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001

E-mail: requestschedule@nara.gov

FAX: 301-837-3698

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

(Note the New Address for Requesting Schedules Using E-Mail)

1. Department of Agriculture, Office of Inspector General (N1-16-06-1, 4 items, 4 temporary items). Litigation files, including cases that involve the enforcement of Inspector General subpoenas. Also scheduled are electronic copies of records created using electronic mail and word processing.

2. Department of Defense, National Geospatial-Intelligence Agency (N1-537-06-1, 2 items, 2 temporary items). Travel activities database records, and preliminary inquiry files accumulated on personnel who are suspected of security violations. This schedule authorizes the agency to apply the proposed disposition instructions to any recordkeeping medium.

3. Department of Health and Human Services, Food and Drug Administration (N1-88-04-5, 30 items, 27 temporary items). Records accumulated in the Office of the Commissioner including, non-significant research project files and working files, patient advocate records, crisis management records, trade agreements and international arrangements, country files, international travel records, export program records, and an electronic system for tracking exports. Also included are electronic copies of records created using electronic mail and word processing. Proposed for permanent retention are significant research project files, official international arrangements, and final export policy documents. This schedule authorizes the agency to apply the proposed disposition instructions to any recordkeeping medium.

4. Department of Homeland Security, Transportation Security Administration (N1-560-04-14, 5 items, 5 temporary items). Records accumulated in the Office of Security Technology including, correspondence, memorandums, briefing materials, studies, and other documents regarding the joint planning, operational integration, and management of transportation security technologies. Also included are electronic copies of records created using electronic mail and word processing.

5. Department of Homeland Security, U.S. Coast Guard (N1-26-05-6, 4 items, 4 temporary items). Case files relating to the enforcement of recreational boating laws and regulations. Records include inspection reports, notes on alleged violations, and documentation of any penalties. Also included are electronic copies of records created using electronic mail and word processing.

6. Department of Homeland Security, U.S. Coast Guard (N1-26-05-12, 3 items, 3 temporary items). Maritime facility security plans and electronic mail and word processing copies relating to emergency procedures, vessel interface, communications, security measures, assessments, and vulnerability summaries.

7. Department of the Interior, Minerals Management Service (N1-473-06-2, 2 items, 2 temporary items). Records include the official record set and reference copies of well logs made by geophysical instruments. This schedule, which applies to records in all media, also reduces the retention period for the official record set from permanent to disposable in 75 years.

8. Department of Justice, Criminal Division (N1-60-05-4, 4 items, 4 temporary items). Records maintained by the Child Exploitation and Obscenity Section to monitor prosecutions under the Deadbeat Parents Punishment Act. Included are reference case files relating to the prosecutions of parents who refuse to pay child support. The U.S. Attorney's Office is responsible for prosecuting and maintaining the recordkeeping copy of these cases. Also included are electronic copies of records created using electronic mail and word processing.

9. Department of Justice, Justice Management Division (N1-60-05-10, 1 item, 1 temporary item). Card index used to track new employees from applicant stage to appointment. This schedule authorizes the agency to apply the proposed disposition instructions only to this closed series.

10. Department of Justice, Bureau of Prisons (N1-129-05-11, 9 items, 7 temporary items). Inputs, outputs, master files, and system documentation associated with an obsolete DOS-based electronic information system used to document all psychological services delivered to inmates. Also included are inputs and outputs of the new web-based system and electronic copies of records created using electronic mail and word processing. Proposed for permanent retention are the master files and documentation of the web-based system.

11. Department of Justice, Bureau of Prisons (N1-129-06-1, 3 items, 3 temporary items). Records relating to General Equivalency Diploma testing accommodation referrals for inmates with physical, emotional, cognitive, and/or chronic health disabilities. Also included are electronic copies of records created using electronic mail and word processing applications.

12. Department of Justice, Bureau of Prisons (N1-129-06-5, 3 items, 3 temporary items). Records relating to inmate safety training and inmate injuries. Also included are electronic copies of records created using electronic mail and word processing applications.

13. Department of Justice, Drug Enforcement Administration (N1-170-06-1, 6 items, 6 temporary items). Inputs, outputs, master files, system documentation, and electronic mail and word processing copies associated with an electronic information system used to track the shipment of listed chemicals.

14. Department of Justice, Federal Bureau of Investigation (N1-65-06-4, 2 items, 2 temporary items). Office of General Counsel copies of White House investigation name check consent forms. Also included are electronic copies of records created using electronic mail and word processing applications. Recordkeeping copies of these files are covered by a previously approved permanent disposition authority.

15. Department of State, Office of the Under Secretary for Global Affairs and Coordinator (N1-59-06-3, 8 items, 4 temporary items). Reference files and extra copies of reports and publications maintained by the Office to Monitor and Combat Trafficking in Persons. Also included are electronic copies of records created using electronic mail and word processing. Proposed for permanent retention are recordkeeping copies of country files, congressional liaison files, program files, reports, and publications.

16. Department of Transportation, Federal Motor Carrier Safety Administration (N1-557-06-1, 17 items, 15 temporary items). Records of the Office of Research and Analysis including correspondence files, contract and grant documentation, and reference files. Also scheduled are electronic mail and word processing copies of records. Proposed for permanent retention are recordkeeping copies of publications and completed research products. This schedule authorizes the agency to apply the proposed disposition instructions to any recordkeeping medium.

17. Department of the Treasury, Internal Revenue Service (N1-58-06-1, 3 items, 3 temporary items). Records relating to the management, operations, and content of the public Web site.

18. Department of the Treasury, Internal Revenue Service (N1-58-06-3, 1 item, 1 temporary item). Completed copies of Form 8886 submitted by taxpayers to report tax shelter transactions and maintained by the Office of Tax Shelter Analysis.

19. Environmental Protection Agency, Office of Administration and Resources Management (N1-412-06-20, 6 items, 6 temporary items). Inputs, outputs, master files, documentation, and software associated with an electronic information system used to track purchases of supplies and services.

20. Library of Congress, Congressional Research Service (N1-297-06-1, 7 items, 5 temporary items). Policy records below the Office of the Director level, draft correspondence and briefing material, research and background files, training materials, and internal electronic database tracking records used to monitor the response status to congressional requests. Proposed for permanent retention are recordkeeping copies of Director and Deputy Director policy records, and intellectual content records such as policy analyses, economic studies, and fact sheets of particular interest to Congress. This schedule authorizes the agency to apply the proposed disposition instructions to any recordkeeping medium.

Dated: April 5, 2006.
Michael J. Kurtz,
Assistant Archivist for Records Services, Washington, DC.

[FR Doc. E6-5264 Filed 4-10-06; 8:45 am]

BILLING CODE 7515-01-P